DEPARTMENT OF AGRICULTURE

Animal and Plant Health Inspection Service

[Docket No. APHIS-2014-0109]

Notice of Request for Revision to and Extension of Approval of an Information Collection; Pale Cyst Nematode

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for the interstate movement of regulated articles to prevent the spread of the pale cyst nematode to noninfested areas of the United States.

DATES: We will consider all comments that we receive on or before March 9, 2015.

ADDRESSES: You may submit comments by either of the following methods:

• Federal eRulemaking Portal: Go to http://www.regulations.gov/#!documentDetail;D=APHIS-2014-0109.

• Postal Mail/Commercial Delivery: Send your comment to Docket No. APHIS-2014-0109, Regulatory Analysis and Development, PPD, APHIS, Station 3A-03.8, 4700 River Road Unit 118, Riverdale, MD 20737-1238.

Supporting documents and any comments we receive on this docket may be viewed at http://www.regulations.gov/#!docketDetail;D=APHIS-2014-0109 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the interstate movement of regulated articles to prevent the spread of pale cyst nematode, contact Mr. Jonathan Jones, National Policy Manager, PHP, Plant Protection and Quarantine, APHIS, 4700 River Road Unit 160, Riverdale, MD 20737; (301) 851-2128. For copies of more detailed information on the information collection, contact Ms. Kimberly Hardy, APHIS' Information Collection Coordinator, at (301) 851-2727.

SUPPLEMENTARY INFORMATION:

Title: Pale Cyst Nematode.

OMB Control Number: 0579-0322.

Type of Request: Revision to and extension of approval of an information collection.

Abstract: As authorized by the Plant Protection Act (PPA, 7 U.S.C. 7701 et seq.), the Secretary of Agriculture, either independently or in cooperation with States, may carry out operations or measures to detect, eradicate, suppress, control, prevent, or retard the spread of plant pests that are new to or not widely distributed within the United States. This authority has been delegated to the Animal and Plant Health Inspection Service (APHIS) of the U.S. Department of Agriculture, which administers regulations to implement the PPA.

In accordance with the regulations in “Subpart-Pale Cyst Nematode” (7 CFR 301.86 through 301.86-9), APHIS restricts the interstate movement of certain articles to help prevent the artificial spread of pale cyst nematode, a major pest of potato crops in cool-temperature areas, to noninfested areas of the United States. The regulations contain requirements for the interstate movement of regulated articles and involve information collection activities, including certificates, permits, and compliance agreements. For this collection, we are also adding self-certification as an additional information collection activity.

Since the last approval of this collection, the areas regulated for pale cyst nematode have decreased. The decrease in regulated areas and the additional information collection activity have contributed to an overall decrease by 39 of the estimated annual number of respondents and an increase by 41 hours in the estimated total annual burden on respondents.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.2 hours per response.

Respondents: U.S. potato producers, packers, processors, and handlers of potatoes.

Estimated annual number of respondents: 113.

Estimated annual number of responses per respondent: 16.

Estimated annual number of responses: 1,860.

Estimated total annual burden on respondents: 383 hours. (Due to averaging, the total annual burden hours may not equal the product of the annual number of responses multiplied by the reporting burden per response.)

All responses to this notice will be summarized and included in the request for OMB approval. All comments will also become a matter of public record.

Done in Washington, DC, this 31st day of December 2014.
Kevin Shea,
Administrator, Animal and Plant Health Inspection Service.

[FR Doc. 2014-30928 Filed 1-5-15; 8:45 am]

BILLING CODE 3410-34-P